DEPARTMENT OF LABOR

Employment and Training Administration

[TA-W-65,409]

Mohawk Industries, Inc., Flooring Manufacturing Division, Calhoun Falls, SC; Notice of Termination of Investigation

Pursuant to Section 221 of the Trade Act of 1974, as amended, an investigation was initiated on February 26, 2009 in response to a worker petition filed on behalf of the workers at Mohawk Industries, Inc., Flooring Manufacturing Division, Calhoun Falls, South Carolina.

The petitioners have requested that the petition be withdrawn. Consequently, the investigation has been terminated.

Signed at Washington, DC, this 1st day of April 2009.
Richard Church,
Certifying Officer, Division of Trade Adjustment Assistance.

[FR Doc. E9-10381 Filed 5-5-09; 8:45 am]

BILLING CODE 4510-FN-P